DEPARTMENT OF VETERANS AFFAIRS

[OMB Control No. 2900-0659]

Agency Information Collection Activity Under OMB Review: Statement in Support of Claim for Service Connection for Post-Traumatic Stress Disorder (PTSD) and Statement in Support of Claim for Service Connection for Post-Traumatic Stress Disorder (PTSD) Secondary to Personal Assault

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0659.

FOR FURTHER INFORMATION CONTACT: Maribel Aponte, Office of Enterprise and Integration, Data Governance Analytics (008), 1717 H Street NW, Washington, DC 20006, (202) 266-4688 or email maribel.aponte@va.gov. Please refer to “OMB Control No. 2900-0659” in any correspondence.

SUPPLEMENTARY INFORMATION: Authority: 38 U.S.C. 5103(a), 38 U.S.C. 5107(a).

Title: Statement in Support of Claim for Service Connection for Post-Traumatic Stress Disorder (PTSD) (VA Form 21-0781) and Statement in Support of Claim for Service Connection for Post-Traumatic Stress Disorder (PTSD) Secondary to Personal Assault (VA Form 21-0781a).

OMB Control Number: 2900-0659.

Type of Review: Reinstatement of a previously approved collection.

Abstract: VA Forms 21-0781 and 21-0781a are used to gather information about stressful incidents in service from veterans claiming compensation for Post-Traumatic Stress Disorder (PTSD). The forms request the information that is necessary for VA to conduct meaningful research of records in order to assist claimants in obtaining credible supporting evidence that the incidents occurred. Without this collection of information, VA would not be able to fulfill its statutory duty to assist for claimants and would be unable to properly authorize benefits.

No changes have been made to these forms. The increase in respondent burden is due to the estimated number of receivables from the previous year.

An agency may not conduct or sponsor, and a person is not required to respond to a collection of information unless it displays a currently valid OMB control number. The Federal Register Notice with a 60-day comment period soliciting comments on this collection of information was published at 85 FR 216 on November 6, 2020, pages 71139 and 71140.

Affected Public: Individuals and households.

Estimated Annual Burden: 23,770 hours.

Estimated Average Burden per Respondent: 70 minutes.

Frequency of Response: On occasion.

Estimated Number of Respondents: 20,374.

By direction of the Secretary.
Maribel Aponte,
VA PRA Clearance Officer, Office of Enterprise and Integration, Data Governance Analytics, Department of Veterans Affairs.

[FR Doc. 2021-03882 Filed 2-24-21; 8:45 am]

BILLING CODE 8320-01-P